POSTAL SERVICE

Privacy Act of 1974; System of Records

AGENCY: Postal Service™.

ACTION: Notice of modification to existing system of records.

SUMMARY: The United States Postal Service® is proposing to modify a General Privacy Act System of Records. These changes are being made to accommodate new data elements used in the Workplace Environment Tracking System (WETS), a new electronic national database for workplace related inquiries and complaints.

DATES: The revision will become effective without further notice on February 13, 2013, unless comments received on or before that date result in a contrary determination.

ADDRESSES: Comments may be mailed or delivered to the Records Office, United States Postal Service, 475 L'Enfant Plaza SW., Room 9431, Washington, DC 20260-1101. Copies of all written comments will be available at this address for public inspection and photocopying between 8 a.m. and 4 p.m., Monday through Friday.

FOR FURTHER INFORMATION CONTACT: Jane Eyre, Manager, Records Office, 202-268-2608.

SUPPLEMENTARY INFORMATION: This notice is in accordance with the Privacy Act requirement that agencies publish their amended systems of records in the Federal Register when there is a revision, change, or addition. The Postal Service™ has determined that this Customer Privacy Act System of Records should be revised to modify Categories of Individuals Covered by the System, Categories of Records in the System, Purpose, Retrievability, System Manager(s) and Address, Notification Procedure, and Record Source Categories.

I. Background

In April 2012 the Postal Service approved the development of an electronic national data base to encompass four Workplace Environment Processes: Initial Management Inquiry Process, Workplace Harassment Fact Finding, Threat Assessment Case Tracking, and Workplace Environment Intervention. As a result of this effort, the manual, hard copy records will be reduced and save work hours at the district, area, and national levels. The application will enable the Postal Service to enforce protocol and analyze data to identify trends and preventative measures relevant to workplace harassment, threats, assaults, and overall workplace environment issues. The purpose is to create a national application and central repository for all four workplace environment processes identified above. The application will enable the Postal Service headquarters Equal Employment Opportunity and Workplace Environment Improvement Departments to standardize documentation, case management, operating procedures, and outcome measures.

II. Rationale for Changes to USPS Privacy Act Systems of Records

Establishing a user friendly tracking system for these four processes will reasonably assure that workplace harassment policies and protocols are standardized, instituted, and utilized to resolve complaints in a timely manner and to formulate action plans and appropriate analysis of the outcomes. The application will allow the Postal Service to better achieve the organization's goal to provide a workplace environment that is safe and free of workplace harassment, discrimination, threats, and assaults.

Short-term goals are to create a system that allows immediate access to workplace environment data and individual cases at a district, area, and headquarter level. It will centralize and standardize the processes regarding documentation, protocols, and risk abatement plans.

Long-term goals are to decrease Postal Service liability, decrease the frequency and severity of complaints, threats, and assaults and to track the timelines of Postal Service responses. Additionally, the data will enable the Postal Service to identify trends to improve the workplace environment processes and develop proactive, preventative measures.

III. Description of Changes to Systems of Records

The Postal Service is modifying one system of records listed below. Pursuant to 5 U.S.C. 552a (e)(11), interested persons are invited to submit written data, views, or arguments on this proposal. A report of the proposed modifications has been sent to Congress and to the Office of Management and Budget for their evaluation. The Postal Service does not expect this amended notice to have any adverse effect on individual privacy rights. The affected system is as follows:

USPS 100.900

SYSTEM NAME:

Employee Inquiry, Complaint, and Investigative Records

Accordingly, for the reasons stated, the Postal Service proposes changes in the existing system of records as follows:

USPS 100.900

SYSTEM NAME:

Employee Inquiry, Complaint, and Investigative Records

CATEGORIES OF INDIVIDUALS COVERED BY THE SYSTEM

[CHANGE TO READ]

USPS employees and non-employees who contact USPS with an inquiry or complaint, and employees and non-employees who are subjects of management inquiries or investigations of workplace issues.

CATEGORIES OF RECORDS IN THE SYSTEM:

[CHANGE TO READ]

1. Employee information: Name, gender, Social Security Number, Employee Identification Number, postal assignment information, veteran status, contact information, finance number(s), duty location, and pay location.

2. Non-employee information: Name, gender, and contact information.

[RENUMBER REMAINING TEXT]

* * * * *

PURPOSE:

[CHANGE TO READ]

1. To enable review and response to inquiries and complaints concerning employees and non-employees.

* * * * *

RETRIEVABILITY:

[CHANGE TO READ]

By employee and non-employee name, subject category, facility, finance number, district, area, nationally, or case number.

SYSTEM MANAGER(S) AND ADDRESS:

* * * * *

[ADD NEW TEXT]

Vice President, Labor Relations, United States Postal Service, 475 L'Enfant Plaza SW., Washington, DC 20260.

* * * * *

NOTIFICATION PROCEDURE:

[CHANGE TO READ]

Employees wanting to know if information about them is maintained in this system of records must address inquiries to the facility head where currently or last employed. Headquarters employees must submit inquiries to Corporate Personnel Management, 475 L'Enfant Plaza SW., Washington, DC 20260. Non-employees wanting to know if information about them is maintained in this system of records must address inquiries to the District Manager, Human Resources that governs the facility where the inquiry, complaint, or investigative records are stored. Inquiries must include full name, address, and other identifying information. In addition, employees must include Social Security Number or Employee Identification Number, name and address of facility where last employed, and dates of USPS employment. Likewise employees may also be required to furnish where the inquiry, complaint, or investigation occurred.

RECORD SOURCE CATEGORIES:

[CHANGE TO READ]

Employees, non-employees, supervisors, managers, and witnesses.

* * * * *

Stanley F. Mires,
Attorney, Legal Policy & Legislative Advice.

[FR Doc. 2013-00480 Filed 1-11-13; 8:45 am]

BILLING CODE 7710-12-P